DEPARTMENT OF ENERGY

Federal Energy Regulatory Commission

[FERC Project No. 2426-197]

California Department of Water Resources and the City of Los Angeles; Notice of Availability of Draft Environmental Assessment

March 1, 2007.

In accordance with the National Environmental Policy Act of 1969 and the Federal Energy Regulatory Commission (Commission or FERC) regulations, 18 CFR Part 380, the Office of Energy Projects staff (staff) reviewed the application for amendment of project license for the California Aqueduct Project, located on Piru Creek in California and prepared a draft environmental assessment (draft EA) for the project. In this draft EA, staff analyzes the potential environmental effects of the proposed minimum flow modification and concludes that amending the license as proposed with staff-additional measures would not constitute a major federal action significantly affecting the quality of the human environment.

A copy of the draft EA is available for review at the Commission in the Public Reference Room, or it may be viewed on the Commission's Web site at http://www.ferc.gov using the “e-Library” link. Enter the docket number P-2426 excluding the last three digits in the docket number field to access the document. For assistance, contact FERC Online Support at FERCOnlineSupport@ferc.gov or toll-free at 1-866-208-3676, or for TTY, (202) 502-8659.

Any comments should be filed by April 30, 2007, and should be addressed to Magalie R. Salas, Secretary, Federal Energy Regulatory Commission, 888 First Street, NE., Room 1-A, Washington, DC 20426. Please refer to “California Aqueduct Project No. 2426-197,” on all comments. Comments may be filed electronically via the Internet in lieu of paper. See 18 CFR 385.2001 (a)(1)(iii) and the instructions on the Commission's Web site at http://www.ferc.gov under the “e-Filing” link. The Commission strongly encourages electronic filings. You may register online at http://www.ferc.gov/docs-filing/esubscription.asp to be notified via e-mail of new filings and issuances related to this or other pending projects.

For further information, please contact Rebecca Martin by telephone at (202) 502-6012 or by e-mail at Rebecca.Martin@ferc.gov.

Magalie R. Salas,
Secretary.

[FR Doc. E7-3997 Filed 3-6-07; 8:45 am]

BILLING CODE 6717-01-P